DEPARTMENT OF COMMERCE

International Trade Administration

[A-570-851]

Certain Preserved Mushrooms from the People's Republic of China: Notice of Partial Rescission of Antidumping Duty Administrative Review

AGENCY: Import Administration, International Trade Administration, Department of Commerce.

SUMMARY: On March 23, 2005, the Department of Commerce (“the Department”) published in the Federal Register (70 FR 14643) a notice announcing the initiation of the sixth administrative review of the antidumping duty order on certain preserved mushrooms from the People's Republic of China (“PRC”). The period of review (“POR”) is February 1, 2004, to January 31, 2005. This review is now being rescinded for Blue Field (Sichuan) Food Industrial Co., Ltd.; China Processed Food Import & Export Company; China National Cereals, Oils, and Foodstuffs Import & Export Corporation; COFCO (Zhangzhou) Food Industrial Co.; Ltd., Fujian Zishan Group Co.; Xiamen Jiahua Import & Export Trading Co., Ltd.; Fujian Yu Xing Fruit and Vegetable Foodstuff Development Co., Ltd.¹; Shandong Jiufa Edible Fungus Co., Ltd.; Guangxi Hengxian Pro-Light Foods, Inc.; Guangxi Yizhou Dongfang Cannery; Inter-foods D.S. Co., Ltd.; Mei Wei Food Industry Co., Ltd.; Nanning Runchao Industrial Trade Co., Ltd.; Raoping Xingyu Foods Co., Ltd.; Xiamen Jiahua Import & Export Trading Co., Ltd.; Xiamen Zhongjia Import and Export Co., Ltd.; Shanghai Superlucky Import & Export Company, Ltd.; Shantou Hongda Industrial General Corporation; Shenxian Dongxing Foods Co., Ltd.; Shenzhen Qunxingyuan Trading Co., Ltd.; Tak Fat Trading Co.; Xiamen International Trade & Industrial Co., Ltd.; Zhangzhou Hongning Canned Food Factory; Zhangzhou Jingxiang Foods Co., Ltd.; Zhangzhou Longhai Lubao Food Co., Ltd.; and Zhangzhou Longhai Minhui Industry and Trade Co., Ltd., (collectively “the Twenty-five Companies”) because the only requesting party withdrew its request in a timely manner.

¹ The Department originally made an inadvertent typographical error by neglecting to include the term ‘Development’ in this company's name in the above-referenced Federal Register initiation notice.

EFFECTIVE DATE: July 21, 2005.

FOR FURTHER INFORMATION CONTACT: Stephen F. Berlinguette, AD/CVD Operations Office 9, Import Administration, U.S. Department of Commerce, 14th Street and Constitution Avenue, NW, Room 4003, Washington, DC 20230; telephone (202) 482-3740.

SUPPLEMENTARY INFORMATION:

Background

On February 19, 1999, the Department published in the Federal Register an amended final determination and antidumping duty order on certain preserved mushrooms from the PRC. See Notice of Amendment of Final Determination of Sales at Less Than Fair Value and Antidumping Duty Order: Certain Preserved Mushrooms from the People's Republic of China, 64 FR 8308 (February 19, 1999).

On February 1, 2005, the Department published a Notice of Opportunity to Request Administrative Review of Antidumping or Countervailing Duty Order, Finding, or Suspended Investigation, 70 FR 5136. On February 28, 2005, the Petitioner requested, in accordance with section 751(a) of the Tariff Act of 1930 (“the Act”) and 19 CFR 351.213(b), an administrative review of the antidumping duty order on certain preserved mushrooms from the PRC for thirty companies covering the period February 1, 2004, through January 31, 2005. On February 7, 2005, and February 25, 2005, four Chinese companies requested an administrative review of their respective companies. The Department notes that these four companies were included in the Petitioner's February 28, 2005, request.

On March 23, 2005, the Department initiated an administrative review of thirty Chinese companies. See Initiation of Antidumping and Countervailing Duty Administrative Reviews and Request for Revocation in Part, 70 FR 14643 (March 23, 2005). On June 29, 2005, the Petitioner filed a timely letter withdrawing its request for review of the Twenty-five companies.

Rescission of Review

Pursuant to section 351.213(d)(1) of the Department's regulations, if a party that requests a review withdraws the review request within ninety days of the date of publication of the notice of initiation of the requested review, the Secretary will rescind the review. The Petitioner withdrew its review request with respect to the Twenty-five Companies in a timely manner, in accordance with 19 CFR 351.213(d)(1). Since the Petitioner was the only party to request an administrative review of the Twenty-five Companies, we are partially rescinding this review of the antidumping duty order on certain preserved mushrooms from the PRC covering the period February 1, 2004, through January 31, 2005, with respect to the Twenty-five Companies.

Assessment

The Department will instruct U.S. Customs and Border Protection (“CBP”) to assess antidumping duties on all appropriate entries. For those companies for which this review is rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice.

Notification of Interested Parties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i) of the Act and 19 CFR 351.213(d)(4).

Dated: July 14, 2005.
Susan H. Kuhbach,
Acting Deputy Assistant Secretary for Import Administration.

[FR Doc. E5-3911 Filed 7-20-05; 8:45 am]

BILLING CODE 3510-DS-S